DEPARTMENT OF COMMERCE

International Trade Administration

[C-533-829]

Notice of Countervailing Duty Order: Prestressed Concrete Steel Wire Strand From India

AGENCY: Import Administration, International Trade Administration, Department of Commerce.

EFFECTIVE DATE: February 4, 2004.

FOR FURTHER INFORMATION CONTACT: Robert Copyak at (202) 482-2209 or Alicia Kinsey at (202) 482-4793, Office of AD/CVD Enforcement VI, Group II, Import Administration, International Trade Administration, U.S. Department of Commerce, Room 4012, 14th Street and Constitution Avenue, NW., Washington, DC 20230.

SUPPLEMENTARY INFORMATION:

Scope of Order

The merchandise subject to this order is prestressed concrete steel wire (PC strand), which is steel strand produced from wire of non-stainless, non-galvanized steel, which is suitable for use in prestressed concrete (both pre-tensioned and post-tensioned) applications. The product definition encompasses covered and uncovered strand and all types, grades, and diameters of PC strand.

The merchandise under this order is currently classifiable under subheadings 7312.10.3010 and 7312.10.3012 of the Harmonized Tariff Schedule of the United States (HTSUS). Although the HTSUS subheadings are provided for convenience and customs purposes, the written description of the merchandise under investigation is dispositive.

Countervailing Duty Order

In accordance with section 705(d) of the Tariff Act of 1930, as amended (the Act), on December 8, 2003, the Department published its final determination in the countervailing duty investigation of prestressed concrete steel wire strand from India. See Notice of Final Affirmative Countervailing Duty Determination: Prestressed Concrete Steel Wire Strand From India, 68 FR 68356 (December 8, 2003). On January 21, 2003, the United States International Trade Commission (USITC) notified the Department of its final determination, pursuant to section 705(b)(1)(A)(i) of the Act, that an industry in the United States suffered material injury as a result of subsidized imports of prestressed concrete steel wire strand from India.

Therefore, countervailing duties will be assessed on all unliquidated entries of prestressed concrete steel wire strand from India entered, or withdrawn from warehouse, for consumption on or after July 8, 2003, the date on which the Department published its preliminary affirmative countervailing duty determination in the Federal Register, and before November 5, 2003, the date the Department instructed the U.S. Customs and Border Protection (CBP) to discontinue the suspension of liquidation in accordance with section 703(d) of the Act, and on all entries of subject merchandise made on or after the date of publication of the USITC's final injury determination in the Federal Register. Section 703(d) of the Act states that the suspension of liquidation pursuant to a preliminary determination may not remain in effect for more than four months. Entries of prestressed concrete steel wire strand made on or after November 5, 2003, and prior to the date of publication of the USITC's final injury determination in the Federal Register are not liable for the assessment of countervailing duties due to the Department's discontinuation, effective November 5, 2003, of the suspensions of liquidation.

In accordance with section 706 of the Act, the Department will direct the CBP to reinstitute the suspension of liquidation for prestressed concrete steel wire strand from India effective the date of the USITC's final injury determination in the Federal Register and to assess, upon further advice by the Department pursuant to section 706(a)(1) of the Act, countervailing duties for each entry of the subject merchandise in an amount based on the net countervailable subsidy rate for the subject merchandise.

On or after the date of publication of the USITC's final injury determination in the Federal Register, the CBP must require, at the same time as importers would normally deposit estimated duties on this merchandise, a cash deposit equal to the rate noted below. The cash deposit rate is as follows:

Producer/exporter | Cash deposit rate
All Producers/Exporters | 62.92 percent ad valorem

This notice constitutes the countervailing duty order with respect to prestressed concrete steel wire strand from India, pursuant to section 706(a) of the Act. Interested parties may contact the Central Records Unit of the Main Commerce Building for copies of an updated list of countervailing duty orders currently in effect.

This countervailing duty order is issued and published in accordance with sections 706(a) and 705 of the Act and 19 CFR 351.211 and 351.224.

Dated: January 29, 2004.
James J. Jochum,
Assistant Secretary for Import Administration.

[FR Doc. 04-2278 Filed 2-3-04; 8:45 am]

BILLING CODE 3510-DS-P